Title 3—

The President

Proclamation 9154 of August 29, 2014

National Alcohol and Drug Addiction Recovery Month, 2014

By the President of the United States of America

A Proclamation

Every day, courageous men and women take the first step toward reclaiming their lives from substance use disorders. We recognize the strength and resolve of these individuals who have committed to recovery, and we are reminded that in the face of great trials, Americans have always drawn on the power of hope, determination, and perseverance. During the 25th annual National Alcohol and Drug Addiction Recovery Month, we celebrate those who are seeking treatment and those who have found pathways to healthy, rewarding lives, and we stand with the families, friends, and professionals who support them.

For the more than 20 million Americans who struggle with substance use disorders, recovery is possible. Research shows addiction is a chronic disease of the brain which can be prevented and treated. However, the stigma associated with this disease—and the false belief that addiction represents a personal failing—creates fear and shame that discourage people from seeking treatment and prevents them from fully rejoining and contributing to their communities. This year's theme, “Join the Voices for Recovery: Speak Up, Reach Out,” urges those who need help to ask for it, and it reminds us that prevention works, treatment is effective, and people can and do recover. Americans seeking help for themselves or their loved ones can call 1-800-662-HELP, or use the “Treatment Locator” tool at www.SAMHSA.gov.

Substance use is a major public health concern, and my Administration is dedicated to promoting evidence-based strategies to combat it. Our 2014 National Drug Control Strategy promotes programs to stop substance use before it begins in our schools and workplaces. It supports policies that remove barriers and expand access to treatment, making recovery a reality for millions of people. And under the Affordable Care Act, more Americans are able to obtain quality, affordable health coverage, and companies participating in the Health Insurance Marketplace are required to cover mental health and substance use disorder treatment services as part of their essential health benefits.

Recovery is a positive force that transforms individuals, families, and communities—but often it is a long and difficult journey. This month, we come together to spread its promise, and remind everyone struggling with substance use that a better life is possible.

NOW, THEREFORE, I, BARACK OBAMA, President of the United States of America, by virtue of the authority vested in me by the Constitution and the laws of the United States, do hereby proclaim September 2014 as National Alcohol and Drug Addiction Recovery Month. I call upon the people of the United States to observe this month with appropriate programs, ceremonies, and activities.

IN WITNESS WHEREOF, I have hereunto set my hand this twenty-ninth day of August, in the year of our Lord two thousand fourteen, and of the Independence of the United States of America the two hundred and thirty-ninth.

[FR Doc. 2014-21254

Filed 9-3-14; 11:15 am]

Billing code 3295-F4